DEPARTMENT OF TRANSPORTATION

Federal Aviation Administration

14 CFR Part 39

[Docket No. FAA-2011-0032; Directorate Identifier 2010-NM-236-AD; Amendment 39-17717; AD 2013-26-08]

RIN 2120-AA64

Airworthiness Directives; the Boeing Company Airplanes

AGENCY: Federal Aviation Administration (FAA), DOT.

ACTION: Final rule.

SUMMARY: We are adopting a new airworthiness directive (AD) for certain The Boeing Company Model 737-600, -700, -700C, -800, and -900 series airplanes. This AD was prompted by reports of arcing and smoke at the left number 2 window in the flight deck. This AD requires inspecting the orientation of both sides of the coil cord connector keyways of the number 2 windows on the flight deck; re-clocking the connector keyways, if necessary; and replacing the coil cord assemblies on both number 2 windows on the flight deck. We are issuing this AD to prevent arcing, smoke, and fire in the flight deck, which could lead to injuries to or incapacitation of the flightcrew.

DATES: This AD is effective February 10, 2014.

The Director of the Federal Register approved the incorporation by reference of certain publications listed in this AD as of February 10, 2014.

ADDRESSES: For service information identified in this AD, contact Boeing Commercial Airplanes, Attention: Data & Services Management, P.O. Box 3707, MC2H-65, Seattle, WA 98124-2207; telephone 206-544-5000, extension 1; fax 206-766-5680; Internet https://www.myboeingfleet.com. You may view this service information at the FAA, Transport Airplane Directorate, 1601 Lind Avenue SW., Renton, WA. For information on the availability of this material at the FAA, call 425-227-1221.

Examining the AD Docket

You may examine the AD docket on the Internet at http://www.regulations.gov by searching for and locating Docket No. FAA-2011-0032; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Louis Natsiopoulos, Aerospace Engineer, Systems and Equipment Branch, ANM-130S, FAA, Seattle Aircraft Certification Office (ACO), 1601 Lind Avenue SW., Renton, WA 98057-3356; phone: 425-917-6478; fax: 425-917-6590; email: Elias.Natsiopoulos@faa.gov.

SUPPLEMENTARY INFORMATION:

Discussion

We issued a supplemental notice of proposed rulemaking (SNPRM) to amend 14 CFR part 39 by adding an AD that would apply to the specified products. The SNPRM published in the Federal Register on July 17, 2012 (77 FR 41931). We preceded the SNPRM with a notice of proposed rulemaking (NPRM), which published in the Federal Register January 26, 2011 (76 FR 4567). The NPRM (76 FR 4567, January 26, 2011) proposed to require inspecting the orientation of both sides of the coil cord connector keyways of the number 2 windows on the flight deck; re-clocking the connector keyways to 12 o'clock, if necessary; and replacing the coil cord assemblies on both number 2 windows on the flight deck. The SNPRM proposed to require changing the keyway position of certain receptacle connectors and adding airplanes to the applicability.

Comments

We gave the public the opportunity to participate in developing this AD. The following presents the comments received on the proposal (77 FR 41931, July 17, 2012) and the FAA's response to each comment.

Request To Expand Applicability

Boeing requested that we revise the applicability of the SNPRM (77 FR 41931, July 17, 2012) to include the airplanes specified in Boeing Special Attention Service Bulletin 737-30-1058, Revision 5, dated April 24, 2013. Boeing stated that the effectivity of this service bulletin includes 75 airplanes that were delivered with the identified unsafe condition.

We agree that the 75 airplanes were delivered with the identified unsafe condition. However, we disagree with expanding the applicability of this final rule, because that would necessitate (under the provisions of the Administrative Procedure Act) reissuing the notice, reopening the period for public comment, considering additional comments subsequently received, and eventually issuing a final rule. We have determined that further delay of this final rule is not appropriate in light of the identified unsafe condition that exists in the airplanes specified in the applicability of the SNPRM (77 FR 41931, July 17, 2012). However, we might consider additional rulemaking in the future. We have not changed this final rule in this regard.

Request To Allow a Power Removal Procedure

American Airlines (AAL) stated that it has no objections to the SNPRM (77 FR 41931, July 17, 2012), but requested that we allow the removal of power by opening circuit breakers in Step B.1., of Part 1, of the Work Instructions in Boeing Special Attention Service Bulletin 737-30-1058, Revision 4, dated November 3, 2011. AAL stated that removal of power by opening circuit breakers is allowed in Step B.1.(b)., of Part 2, of the Work Instructions in Boeing Special Attention Service Bulletin 737-30-1058, Revision 4, dated November 3, 2011. AAL explained that removal of power by opening circuit breakers would greatly reduce the disruption to airplane maintenance being accomplished concurrently.

We agree with AAL's request. The requested procedure is included in Boeing Special Attention Service Bulletin 737-30-1058, Revision 5, dated April 24, 2013. We have changed paragraphs (g), (h), and (k) of this final rule (paragraph (k) in this final rule was identified as paragraph (i) in the SNPRM (77 FR 41931, July 17, 2012)) to refer to Boeing Special Attention Service Bulletin 737-30-1058, Revision 5, dated April 24, 2013, as the appropriate source of service information.

Boeing Special Attention Service Bulletin 737-30-1058, Revision 5, dated April 24, 2013, specifies an additional inspection that is not included in Revision 4 of Boeing Special Attention Service Bulletin, dated November 3, 2011. For Group 1, Configuration 3, and Group 2, Configuration 2, airplanes, Boeing Special Attention Service Bulletin 737-30-1058, Revision 5, dated April 24, 2013, specifies a general visual inspection for rubbing damage on the coil cords, and replacement of the coil cord with a new coil cord if rubbing damage is found. Boeing Special Attention Service Bulletin 737-30-1058, Revision 5, dated April 24, 2013, describes the labor hours required for the inspection as less than one hour for each coil cord. We have determined that this minor change in inspection procedures will not impose an additional burden on any operator; further, because it is a logical outgrowth of the notice, an additional opportunity for public comment will not be necessary. We have added the costs for this inspection to the Costs of Compliance section of this final rule, added new paragraph (i) to this final rule to require the coil cord inspection, and re-designated subsequent paragraphs accordingly.

Revision 5 of Boeing Special Attention Service Bulletin 737-30-1058, dated April 24, 2013, also describes changes to a wire diagram reference and adds improved figure work instructions.

Request To Allow Re-installation of Coil Cords

AAL requested that we allow retention and re-installation of coil cords if they are the new part number and no damage is found on them during the inspections proposed in the SNPRM (77 FR 41931, July 17, 2012). AAL stated that since the new coil cord has been available for several years, it is possible that some airplanes may already have the new coil cord installed.

We disagree with revising this final rule because this final rule and the referenced service information, Boeing Special Attention Service Bulletin 737-30-1058, Revision 5, dated April 24, 2013, specify further actions beyond simply installing a new coil cord. Figures 12 and 14 in Boeing Special Attention Service Bulletin 737-30-1058, Revision 5, dated April 24, 2013, provide procedures for installation of receptacle connectors on the cover as part of the coil cord replacement for certain airplanes. Operators must ensure that all applicable actions specified in the service information have been done in addition to the installation of the new coil cord. However, under the provisions of paragraph (l) of this final rule, we will consider requests for approval of an alternative method of compliance (AMOC) to allow retaining and reinstalling the coil cord on airplanes after the effective date of this final rule, providing sufficient data is submitted to address the identified unsafe condition. We have not changed this final rule in this regard.

Request To Clarify Certain Work Instructions

AAL requested that we clarify the work instructions for reinstallation of connector receptacle D10572 for Group 1, Configuration 1, airplanes as identified in Boeing Special Attention Service Bulletin 737-30-1058, Revision 4, dated November 3, 2011. AAL stated that Figures 12 and 14 of this service bulletin have steps to reinstall the connector receptacle, but the work instructions and figures for Group 1, Configuration 1 airplanes do not include steps that remove the connector receptacle.

We agree to clarify. The removal of the receptacle connector D10572 was addressed in Boeing Special Attention Service Bulletin 737-30-1058, Revision 3, dated July 7, 2010. The instructions were inadvertently omitted in Boeing Special Attention Service Bulletin 737-30-1058, Revision 4, dated November 3, 2011. Boeing has added the requested clarification to Boeing Special Attention Service Bulletin 737-30-1058, Revision 5, dated April 24, 2013. As referenced previously, we have specified Boeing Special Attention Service Bulletin 737-30-1058, Revision 5, dated April 24, 2013, as the appropriate source of service information in this final rule.

Additional Change to This Final Rule

We have added new paragraph (j) to this final rule to specify exceptions to Boeing Special Attention Service Bulletin 737-30-1058, Revision 5, dated April 24, 2013, and redesignated the subsequent paragraphs accordingly.

Conclusion

We reviewed the available data, including the comments received, and determined that air safety and the public interest require adopting this AD with the changes described previously and minor editorial changes. We have determined that these changes:

• Are consistent with the intent that was proposed in the SNPRM (77 FR 41931, July 17, 2012) for correcting the unsafe condition; and

• Do not add any additional burden upon the public than was already proposed in the SNPRM (77 FR 41931, July 17, 2012).

We also determined that these changes will not increase the economic burden on any operator or increase the scope of this AD.

Costs of Compliance

We estimate that this AD affects 712 airplanes of U.S. registry.

We estimate the following costs to comply with this AD:

Estimated Costs
Action | Labor cost | Parts cost | Cost per product | Number of airplanes | Cost on U.S. operators
Keyway inspection and installation of new cord assemblies on both sides of the flight deck (Group 1, Configuration 1 airplanes) | 6 work-hours × $85 per hour = $510 | $1,608 | $2,118 | 712 | $1,508,016.
Adjustment of receptacles on both sides of the flight deck (Group 1, Configuration 2, and Group 2 airplanes) | 4 work-hours × $85 per hour = $340 | 0 | 340 | 404 | 137,360.
Coil cord inspection (Group 1, Configuration 3, and Group 2 airplanes) | 1 work-hour × $85 per hour = $85 per coil cord | 0 | 85 per coil cord | 404 | 34,240 per coil cord.

We estimate the following costs to do any necessary replacements that would be required based on the results of the inspection. We have no way of determining the number of aircraft that might need these replacements:

On-Condition Costs
Action | Labor cost | Parts cost | Cost per product
Replacement | 3 work-hours × $85 per hour = $255 per coil cord assembly | $1,735 per coil cord assembly | $1,990 per coil cord assembly.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-26-08 The Boeing Company: Amendment 39-17717 ; Docket No. FAA-2011-0032; Directorate Identifier 2010-NM-236-AD.

(a) Effective Date

This AD is effective February 10, 2014.

(b) Affected ADs

None.

(c) Applicability

This AD applies to The Boeing Company Model 737-600, -700, -700C, -800, -900, and -900ER series airplanes, certificated in any category, as identified in Boeing Special Attention Service Bulletin 737-30-1058, Revision 4, dated November 3, 2011.

(d) Subject

Joint Aircraft System Component (JASC)/Air Transport Association (ATA) of America Code 30, Ice and Rain Protection.

(e) Unsafe Condition

This AD was prompted by reports of arcing and smoke at the left number 2 window in the flight deck. We are issuing this AD to prevent arcing, smoke, and fire in the flight deck, which could lead to injuries to or incapacitation of the flightcrew.

(f) Compliance

Comply with this AD within the compliance times specified, unless already done.

(g) Inspection and Replacement for Group 1, Configuration 1, Airplanes

For airplanes identified as Group 1, Configuration 1, in Boeing Special Attention Service Bulletin 737-30-1058, Revision 5, dated April 24, 2013: Within 48 months after the effective date of this AD, do the actions in paragraphs (g)(1) and (g)(2) of this AD.

(1) Do a general visual inspection of the orientation of the coil cord connector keyways on the captain's and first officer's sides of the flight compartment, in accordance with the Accomplishment Instructions of Boeing Special Attention Service Bulletin 737-30-1058, Revision 5, dated April 24, 2013, except as specified in paragraph (j) of this AD. If the orientation is not at the specified position, before further flight, turn the receptacle connector to the correct position, in accordance with the Accomplishment Instructions of Boeing Special Attention Service Bulletin 737-30-1058, Revision 5, dated April 24, 2013, except as specified in paragraph (j) of this AD.

(2) Replace the coil cords with new coil cords on both sides of the flight deck, in accordance with the Accomplishment Instructions of Boeing Special Attention Service Bulletin 737-30-1058, Revision 5, dated April 24, 2013, except as specified in paragraph (j) of this AD.

(h) Receptacle Replacement for Group 1, Configuration 2, and Group 2, Configuration 1 Airplanes

For airplanes identified as Group 1, Configuration 2, and Group 2, Configuration 1, in Boeing Special Attention Service Bulletin 737-30-1058, Revision 5, dated April 24, 2013: Within 48 months after the effective date of this AD, install the receptacle connector with changed keyway position on both sides of the flight deck, in accordance with the Accomplishment Instructions of Boeing Special Attention Service Bulletin 737-30-1058, Revision 5, dated April 24, 2013, except as specified in paragraph (j) of this AD.

(i) Coil Cord Inspection and Corrective Action

For airplanes identified as Group 1, Configuration 3, and Group 2, Configuration 2, in Boeing Special Attention Service Bulletin 737-30-1058, Revision 5, dated April 24, 2013: Within 48 months after the effective date of this AD, do a general visual inspection for rubbing damage of the coil cord on the captain's and first officer's sides of the flight compartment, in accordance with the Accomplishment Instructions of Boeing Special Attention Service Bulletin 737-30-1058, Revision 5, dated April 24, 2013, except as specified in paragraph (j) of this AD. If any rubbing damage is found: Before further flight, replace the coil cord with a new coil cord, in accordance with the Accomplishment Instructions of Boeing Special Attention Service Bulletin 737-30-1058, Revision 5, dated April 24, 2013, except as specified in paragraph (j) of this AD.

(j) Exceptions to Boeing Special Attention Service Bulletin 737-30-1058, Revision 5, Dated April 24, 2013

(1) In the circuit breaker tables of the Work Instructions of Boeing Special Attention Service Bulletin 737-30-1058, Revision 5, dated April 24, 2013, the panel number for circuit breaker C00393 is incorrectly identified as “P6-12.” The correct panel number reference for circuit breaker C00393, “WINDOW HEAT POWER RIGHT SIDE,” is P6-11.

(2) In paragraph 3.B Work Instructions, of Boeing Special Attention Service Bulletin 737-30-1058, Revision 5, dated April 24, 2013, the description for Part 3 work instructions as PART 3: RECEPTACLE CONNECTOR POSITION CHANGE is incorrect. The correct description for Part 3 work instructions is PART 3: COIL CORD INSPECTION AND REPLACEMENT IF DAMAGE IS FOUND.

(3) In Figures 13 and 14, in paragraph 3.B Work Instructions, of Boeing Special Attention Service Bulletin 737-30-1058, Revision 5, dated April 24, 2013, before the step tables, the note misidentified certain parts and airplane groups. The note should read:

NOTE: Group 1 and Group 2 airplanes have the connector receptacle identified as D10572. Group 3 airplanes have the connector receptacle identified as D10560. Except for Group 1 airplanes, a wire diagram change is not necessary and not shown in this service bulletin.

(k) Credit for Previous Actions

This paragraph provides credit for the replacement required by paragraph (g)(2) of this AD, if the replacement was performed before the effective date of this AD using the service information specified in paragraph (k)(1), (k)(2), (k)(3), (k)(4), or (k)(5) of this AD, provided that the actions required by paragraph (h) of this AD are done in accordance with Boeing Special Attention Service Bulletin 737-30-1058, Revision 4, dated November 3, 2011; or Boeing Special Attention Service Bulletin 737-30-1058, Revision 5, dated April 24, 2013; for Group 1, Configuration 2, and Group 2 airplanes.

(1) Boeing Service Bulletin 737-30-1058, dated July 27, 2006, which is not incorporated by reference in this AD.

(2) Boeing Service Bulletin 737-30-1058, Revision 1, dated June 18, 2007, which is not incorporated by reference in this AD.

(3) Boeing Service Bulletin 737-30-1058, Revision 2, dated February 13, 2009, which is not incorporated by reference in this AD.

(4) Boeing Special Attention Service Bulletin 737-30-1058, Revision 3, dated July 7, 2010, which is not incorporated by reference in this AD.

(5) Boeing Special Attention Service Bulletin 737-30-1058, Revision 4, dated November 3, 2011.

(l) Alternative Methods of Compliance (AMOCs)

(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(m) Related Information

(1) For more information about this AD, contact Louis Natsiopoulos, Aerospace Engineer, Systems and Equipment Branch, ANM-130S, FAA, Seattle Aircraft Certification Office (ACO), 1601 Lind Avenue SW., Renton, WA 98057-3356; phone: 425-917-6478; fax: 425-917-6590; email: Elias.Natsiopoulos@faa.gov.

(2) Service information identified in this AD that is not incorporated by reference may be obtained at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 737-30-1058, Revision 4, dated November 3, 2011.

(ii) Boeing Special Attention Service Bulletin 737-30-1058, Revision 5, dated April 24, 2013.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 20, 2013.
Jeffrey E. Duven,
Manager, Transport Airplane Directorate, Aircraft Certification Service.

[FR Doc. 2013-31307 Filed 1-3-14; 8:45 am]

BILLING CODE 4910-13-P